BUREAU OF CONSUMER FINANCIAL PROTECTION

Privacy Act of 1974, as Amended

AGENCY: Bureau of Consumer Financial Protection.

ACTION: Notice of a Revised Privacy Act System of Records.

SUMMARY: In accordance with the Privacy Act of 1974, as amended, the Bureau of Consumer Financial Protection, hereinto referred to as the Consumer Financial Protection Bureau (CFPB), gives notice of the establishment of a Privacy Act System of Records.

DATES: Comments must be received no later than March 5, 2014. The new system of records will be effective March 17, 2014, unless the comments received result in a contrary determination.

ADDRESSES: You may submit comments by any of the following methods:

• Electronic: privacy@cfpb.gov

• Mail/Hand Delivery/Courier: Claire Stapleton, Chief Privacy Officer, Consumer Financial Protection Bureau, 1700 G Street NW., Washington, DC 20552.

Comments will be available for public inspection and copying at 1700 G Street NW., Washington, DC 20552 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: As part of a biennial review of this System of Records, the CFPB revises its Privacy Act System of Records Notice (SORN) “CFPB.010—Ombudsman System.” In revising this SORN, the CFPB modifies the retention and disposal of records in the system to reflect the Ombudsman's official Records Schedule on file with the National Archives and Records Administration; the categories of records in the system; and the record source categories for the system. Additionally, the CFPB makes several non-substantive changes to the system location and address; the system manager and address; the authority section; the routine use section; and the notification procedure section.

Section 1013(a)(5) of the Dodd-Frank Wall Street Reform and Consumer Protection Act Public Law 111-203, Title X, established an Ombudsman's Office to liaise between the CFPB and “any affected person with respect to any problem that such party may have in dealing with the Bureau, resulting from the regulatory activities of the Bureau.” The Ombudsman's Office is an independent, impartial, and confidential resource that will advocate for a fair process to resolve issues between the CFPB and an individual or a financial product or service provider. Records in this system allow the Ombudsman's Office to track inquiries submitted to the Ombudsman while they are being addressed. The CFPB Ombudsman's Office will maintain the records covered by this notice.

The report of the revised system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000,¹ and the Privacy Act, 5 U.S.C. 552a(r).

¹ Although pursuant to section 1017(a)(4)(E) of the Consumer Financial Protection Act, Public Law 111-203, the CFPB is not required to comply with OMB-issued guidance, it voluntarily follows OMB privacy-related guidance as a best practice and to facilitate cooperation and collaboration with other agencies.

The revised system of records entitled “CFPB.010—Ombudsman System” is published in its entirety below.

Dated: January 27, 2014.
Claire Stapleton,
Chief Privacy Officer, Bureau of Consumer Financial Protection.

CFPB.010

SYSTEM NAME:

Ombudsman System.

SYSTEM LOCATION:

CFPB Ombudsman's Office, Consumer Financial Protection Bureau, 1700 G Street NW., Washington DC 20552.

CATEGORIES OF INDIVIDUALS COVERED BY THE SYSTEM:

Individuals, which may include, without limitation: (1) Current or former officers, employees, shareholders, agents, and independent contractors of covered persons and service providers as defined by the Act; (2) those who submit inquiries to the CFPB Ombudsman's Office and their representatives; and (3) employees of the CFPB assigned to review and/or respond to any inquiries, as requested by the Ombudsman's Office.

CATEGORIES OF RECORDS IN THE SYSTEM:

Records maintained in the system may contain, without limitation: (1) Correspondence (including letters, memoranda, faxes, telegrams, and emails) received and sent; (2) identifying information regarding the individual who submitted the inquiry, such as the individual's name, phone number, address, email address, and any other disclosed identifiable information; (3) information about the CFPB employee who is responsible for addressing the inquiry; (4) information regarding the status of the inquiry or otherwise related to the inquiry; and (5) relevant dates.

AUTHORITY FOR MAINTENANCE OF THE SYSTEM:

Public Law 111-203, Title X, Section 1013, codified at 12 U.S.C. 5493.

PURPOSE:

The purpose of the information system is to enable the CFPB Ombudsman to efficiently and securely process information while providing assistance to individuals, financial product or service providers, or their representatives in resolving problems with the CFPB.

ROUTINE USES OF RECORDS MAINTAINED IN THE SYSTEM, INCLUDING CATEGORIES OF USERS AND THE PURPOSES OF SUCH USES:

These records may be disclosed, consistent with the CFPB Disclosure of Records and Information Rules, promulgated at 12 CFR 1070 et seq., to:

(1) Appropriate agencies, entities, and persons when (a) the CFPB suspects or has confirmed that the security or confidentiality of information in the system of records has been compromised; (b) the CFPB has determined that as a result of the suspected or confirmed compromise there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to: (a) Permit a decision as to access, amendment or correction of records to be made in consultation with or by that agency; or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job or other activity on behalf of the CFPB Ombudsman's Office or Federal Government and who have a need to access information in the performance of their duties or activities;

(6) The U.S. Department of Justice (“DOJ”) for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ or the CFPB has agreed to represent the employee; or

(d) The United States, where the CFPB determines that litigation is likely to affect the CFPB or any of its components; and

(7) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license.

POLICIES AND PRACTICES FOR STORING, RETRIEVING, ACCESSING, RETAINING, AND DISPOSING OF RECORDS IN THE SYSTEM:

STORAGE:

Paper and electronic records.

RETRIEVABILITY:

Records are retrievable by a variety of fields, including the name of the individual or type of financial product or service provider, the date of the inquiry, the inquiry control number, or some combination thereof.

SAFEGUARDS:

Access to electronic records is restricted to authorized CFPB Ombudsman personnel who have been issued non-transferrable access codes and passwords. Other records are maintained in locked file cabinets or rooms with access limited to those CFPB Ombudsman personnel whose official duties require access.

RETENTION AND DISPOSAL:

Per N1-587-12-03, item 4, records in this system are deleted or destroyed ninety (90) days after the day on which the inquiry was closed by the Ombudsman.

SYSTEM MANAGER(S) AND ADDRESS:

Consumer Financial Protection Bureau, Ombudsman, 1700 G Street NW., Washington, DC 20552.

NOTIFICATION PROCEDURE:

Individuals seeking notification and access to any record contained in this system of records, or seeking to contest its content, may inquire in writing in accordance with instructions appearing in Title 12, Chapter 10 of the CFR, “Disclosure of Records and Information.” Address such requests to: Chief Privacy Officer, Consumer Financial Protection Bureau, 1700 G Street NW., Washington, DC 20552.

RECORD ACCESS PROCEDURES:

See “Notification Procedures” above.

CONTESTING RECORD PROCEDURES:

See “Notification Procedures” above.

RECORD SOURCE CATEGORIES:

Information in this system is collected from (1) current or former officers, employees, shareholders, agents, and independent contractors of covered persons and service providers as defined by the Act; (2) those who submit inquiries to the CFPB Ombudsman's Office and their representatives; and (3) employees of the CFPB assigned to review and/or respond to any inquiries, as requested by the Ombudsman's Office.

EXEMPTIONS CLAIMED FOR THE SYSTEM:

None.

[FR Doc. 2014-02118 Filed 1-31-14; 8:45 am]

BILLING CODE 4810-AM-P